DEPARTMENT OF ENERGY

Federal Energy Regulatory Commission

Combined Notice of Filings

Take notice that the Commission has received the following Natural Gas Pipeline Rate and Refund Report filings:

Docket Numbers: RP11-1591-000.

Applicants: Golden Pass Pipeline LLC.

Description: Report Filing: 2019 Penalty Revenue and Costs Report of Golden Pass Pipeline.

Filed Date: 12/2/19.

Accession Number: 20191202-5045.

Comments Due: 5 p.m. ET 12/16/19.

Docket Numbers: RP20-210-001.

Applicants: Rockies Express Pipeline LLC.

Description: Tariff Amendment: Amendment to RP20-210 to be effective 11/6/2019.

Filed Date: 12/2/19.

Accession Number: 20191202-5081.

Comments Due: 5 p.m. ET 12/9/19.

Docket Numbers: RP20-214-001.

Applicants: Rockies Express Pipeline LLC.

Description: Tariff Amendment: Amendment to RP20-214 to be effective 11/7/2019.

Filed Date: 12/2/19.

Accession Number: 20191202-5082.

Comments Due: 5 p.m. ET 12/9/19.

Docket Numbers: RP20-225-001.

Applicants: Rockies Express Pipeline LLC.

Description: Tariff Amendment: Amendment to RP20-225 to be effective 11/12/2019.

Filed Date: 12/2/19.

Accession Number: 20191202-5084.

Comments Due: 5 p.m. ET 12/9/19.

Docket Numbers: RP20-289-001.

Applicants: NEXUS Gas Transmission, LLC.

Description: Tariff Amendment: Negotiated Rates Amendment NJR and DTE—eff 12-1-19 to be effective 12/1/2019.

Filed Date: 12/2/19.

Accession Number: 20191202-5122.

Comments Due: 5 p.m. ET 12/16/19.

Docket Numbers: RP20-294-000.

Applicants: Rover Pipeline LLC.

Description: § 4(d) Rate Filing: Summary of Negotiated Rate Capacity Release Agreements on 12-2-19 to be effective 12/1/2019.

Filed Date: 12/2/19.

Accession Number: 20191202-5001.

Comments Due: 5 p.m. ET 12/16/19.

Docket Numbers: RP20-295-000.

Applicants: Equitrans, L.P.

Description: § 4(d) Rate Filing: Negotiated Capacity Release Agreements—12/1/2019 to be effective 12/1/2019.

Filed Date: 12/2/19.

Accession Number: 20191202-5046.

Comments Due: 5 p.m. ET 12/16/19.

Docket Numbers: RP20-296-000.

Applicants: Gulf South Pipeline Company, LP.

Description: § 4(d) Rate Filing: Cap Rel Neg Rate Agmt (JERA 46435 to EDF 51808) to be effective 12/1/2019.

Filed Date: 12/2/19.

Accession Number: 20191202-5061.

Comments Due: 5 p.m. ET 12/16/19.

Docket Numbers: RP20-297-000.

Applicants: Gulf South Pipeline Company, LP.

Description: § 4(d) Rate Filing: Cap Rel Neg Rate Agmts (Atlanta Gas 8438 to various shippers eff 12-1-2019) to be effective 12/1/2019.

Filed Date: 12/2/19.

Accession Number: 20191202-5056.

Comments Due: 5 p.m. ET 12/16/19.

Docket Numbers: RP20-298-000.

Applicants: Gulf South Pipeline Company, LP.

Description: § 4(d) Rate Filing: Cap Rel Neg Rate Agmt (Constellation 51811 to Exelon 51846) to be effective 12/1/2019.

Filed Date: 12/2/19.

Accession Number: 20191202-5057.

Comments Due: 5 p.m. ET 12/16/19.

Docket Numbers: RP20-299-000.

Applicants: UGI Sunbury, LLC.

Description: Operational Purchases and Sales Report of UGI Sunbury, LLC under RP20-299.

Filed Date: 12/2/19.

Accession Number: 20191202-5058.

Comments Due: 5 p.m. ET 12/16/19.

Docket Numbers: RP20-300-000.

Applicants: Gulf South Pipeline Company, LP.

Description: § 4(d) Rate Filing: Amendment to Neg Rate Agmt (Colorado Bend 46280) to be effective 12/1/2019.

Filed Date: 12/2/19.

Accession Number: 20191202-5059.

Comments Due: 5 p.m. ET 12/16/19.

Docket Numbers: RP20-301-000.

Applicants: Gulf South Pipeline Company, LP.

Description: § 4(d) Rate Filing: Cap Rel Neg Rate Agmts (Aethon 50488, 37657 to Scona 51862, 51868) to be effective 12/1/2019.

Filed Date: 12/2/19.

Accession Number: 20191202-5060.

Comments Due: 5 p.m. ET 12/16/19.

Docket Numbers: RP20-302-000.

Applicants: Texas Gas Transmission, LLC.

Description: § 4(d) Rate Filing: Cap Rel Neg Rate Agmt (JERA 37702 to EDF 38350) to be effective 12/1/2019.

Filed Date: 12/2/19.

Accession Number: 20191202-5062.

Comments Due: 5 p.m. ET 12/16/19.

Docket Numbers: RP20-303-000.

Applicants: ANR Storage Company.

Description: § 4(d) Rate Filing: Market-Based Rate Implementation to be effective 1/1/2020.

Filed Date: 12/2/19.

Accession Number: 20191202-5088.

Comments Due: 5 p.m. ET 12/16/19.

Docket Numbers: RP20-304-000.

Applicants: Gulf South Pipeline Company, LP.

Description: § 4(d) Rate Filing: Amendments to Certain Coastal Bend Agreements eff 12-1-2019 to be effective 12/1/2019.

Filed Date: 12/2/19.

Accession Number: 20191202-5090.

Comments Due: 5 p.m. ET 12/16/19.

Docket Numbers: RP20-305-000.

Applicants: Millennium Pipeline Company, LLC.

Description: § 4(d) Rate Filing: Negotiated Rate Agmts Updates to be effective 12/15/2019.

Filed Date: 12/2/19.

Accession Number: 20191202-5113.

Comments Due: 5 p.m. ET 12/16/19.

Docket Numbers: RP20-306-000.

Applicants: Tennessee Gas Pipeline Company, L.L.C.

Description: § 4(d) Rate Filing: Volume No. 2—EQT Energy, LLC SP341108 & SP344403 to be effective 1/1/2020.

Filed Date: 12/2/19.

Accession Number: 20191202-5115.

Comments Due: 5 p.m. ET 12/16/19.

Docket Numbers: RP20-307-000.

Applicants: Rockies Express Pipeline LLC.

Description: § 4(d) Rate Filing: Neg Rate 2019-12-2 Encana to be effective 12/1/2019.

Filed Date: 12/2/19.

Accession Number: 20191202-5119.

Comments Due: 5 p.m. ET 12/16/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 3, 2019.
Nathaniel J. Davis, Sr.,
Deputy Secretary.

[FR Doc. 2019-26515 Filed 12-9-19; 8:45 am]

BILLING CODE 6717-01-P